FEDERAL COMMUNICATIONS COMMISSION

[WC Docket No. 02-60, FCC 07-198]

Rural Health Care Support Mechanism

AGENCY: Federal Communications Commission.

ACTION: Announcement of effective date.

SUMMARY: On November 16, 2007, in the Universal Service Rural Health Care Pilot Program Selection Order, 22 FCC Rcd 20,360 (2007 RHC Selection Order), the Commission selected 69 participants for the Universal Service Rural Health Care (RHC) Pilot Program established by the Commission in the 2006 Pilot Program Order, 71 FR 65517, November 8, 2006, pursuant to section 254(h)(2)(A) of the Communications Act of 1934, as amended by the Telecommunications Act of 1996 (1996 Act). As a result, selected participants will be eligible to receive funding for up to 85 percent of the costs associated with: (1) The construction of a state or regional broadband networks and the advanced telecommunications and information services provided over those networks; (2) connecting to Internet 2 or National LambdaRail (NLR); and (3) connecting to the public Internet. The information collection requirements in the 2007 RHC Selection Order required Office of Management and Budget approval. This document announces the effective date of these information collection requirements.

DATES: The information collection requirements became effective on January 17, 2008.

FOR FURTHER INFORMATION CONTACT: Thomas Buckley, Senior Deputy Chief or Jennifer Prime, Attorney, Telecommunications Access Policy Division, Wireline Competition Bureau, (202) 418-7400, TTY (202) 418-0484.

SUPPLEMENTARY INFORMATION: The 2007 RHC Selection Order stated that the Commission would publish a notice announcing the effective date of the information collection requirements. On January 17, 2008, OMB approved the information collection requirements contained in the 2007 RHC Selection Order pursuant to OMB Control No. 3060-0804, Universal Service—Rural Health Care Program/Rural Health Care Pilot Program. Accordingly, the information collection requirements contained in the 2007 RHC Selection Order became effective on January 17, 2008. The expiration date for the information collection is July 31, 2008.

Pursuant to the Paperwork Reduction Act of 1995 (Pub. L. 104-13), an agency may not conduct or sponsor a collection of information unless it displays a currently valid control number. Notwithstanding any other provisions of law, no person shall be subject to any penalty for failing to comply with a collection of information subject to the Paperwork Reduction Act (PRA) that does not display a valid control number. Questions concerning this information collection, 3060-0804, should be directed to Leslie F. Smith, Federal Communications Commission, and (202) 418-0217 or via the Internet at Leslie.Smith@fcc.gov.

Federal Communications Commission.
Marlene H. Dortch,
Secretary.

[FR Doc. E8-1323 Filed 1-24-08; 8:45 am]

BILLING CODE 6712-01-P